DEPARTMENT OF COMMERCE

National Oceanic and Atmospheric Administration

[I.D. 060600A]

Submission for OMB Review; Comment Request

The Department of Commerce (DoC) has submitted to the Office of Management and Budget (OMB) for clearance the following proposal for collection of information under the provisions of the Paperwork Reduction Act (44 U.S.C. Chapter 35).

Agency: National Oceanic and Atmospheric Administration (NOAA).

Title: Atlantic Bluefin Tuna Mandatory Catch Reporting.

Agency Form Number(s): None.

OMB Approval Number: 0648-0328.

Type of Request: Revision of a currently approve collection.

Burden Hours: 955.

Number of Respondents: 8,697.

Average Hours Per Response: 5 minutes per permit holder per fish using the call-in system; 10 minutes per permit holder per fish using the catch card system.

Needs and Uses: As a member of the International Commission for the Conservation of Atlantic Tunas (ICCAT), the U.S. is required to take part in the collection of biological statistics for research purposes. In addition to this requirement, the U.S. must abide by the specific quota assigned to it by the ICCAT. The mandatory catch reporting program provides current information on the vessel owners participating in the Atlantic tuna fisheries, thus facilitating the quota monitoring necessary to avoid exceeding the quota. It also aids the National Marine Fisheries Service in the enforcement of fishery regulations.

Frequency: On Occasion.

Respondent's Obligation: Mandatory.

OMB Desk Officer: David Rostker, (202) 395-3897.

Copies of the above information collection proposal can be obtained by calling or writing Linda Engelmeier, DoC Forms Clearance Officer, (202) 482-3272, Department of Commerce, Room 6066, 14th and Constitution Avenue, NW, Washington, DC 20230 (or via the Internet at lengelme@doc.gov).

Written comments and recommendations for the proposed information collection should be sent within 30 days of publication of this notice to David Rostker, OMB Desk Officer, Room 10202, New Executive Office Building, 725 17th Street, NW, Washington, DC 20503.

Dated: June 2, 2000.
Gwellnar Banks,
Management Analyst, Office of the Chief Information Officer.

[FR Doc. 00-14672 Filed 6-8-00; 8:45 am]

BILLING CODE 3510-22-F